DEPARTMENT OF COMMERCE

National Oceanic and Atmospheric Administration

[I.D. 020404C]

Endangered and Threatened Species; Take of Anadromous Fish

AGENCY: National Marine Fisheries Service (NMFS), National Oceanic and Atmospheric Administration, Commerce

ACTION: Issuance of Permit.

SUMMARY: NMFS has issued Permit 1408 to the California Department of Water Resources (DWR).

ADDRESSES: Copies of the permit may be obtained from the Protected Resources Division, NMFS, 650 Capitol Mall, Suite 8-300, Sacramento, CA 95814.

FOR FURTHER INFORMATION CONTACT: Rosalie del Rosario at (916) 930-3614, or e-mail: Rosalie.delRosario@noaa.gov.

SUPPLEMENTARY INFORMATION: This notice is relevant to federally endangered Sacramento River winter-run Chinook salmon (Oncorhynchus tshawytscha), threatened Central Valley spring-run Chinook salmon (O. tshawytscha), and threatened Central Valley steelhead (O. mykiss).

Permit

Permit 1408 was issued to DWR on December 23, 2003. The permit authorizes incidental take (by long-line gear) and release of ESA-listed juvenile and adult Sacramento River winter-run Chinook salmon, Central Valley spring-run Chinook salmon, and Central Valley steelhead from San Pablo Bay, the Sacramento-San Joaquin Delta, and the Sacramento River to River Mile 220. The project exclusively targets collection of migrating adult white sturgeon to study sturgeon swimming performance and behavior. Permit 1408 expires June 30, 2008. NMFS has determined that take levels authorized in the modified permit will not jeopardize listed salmon and steelhead nor result in the destruction or adverse modification of critical habitat where described.

Issuance of this permit, as required by the ESA, was based on a finding that the permit: (1) was applied for in good faith; (2) will not operate to the disadvantage of the listed species which are the subject of the permit; and (3) is consistent with the purposes and policies set forth in section 2 of the ESA. This permit was issued in accordance with, and is subject to, 50 CFR part 222, the NMFS regulations governing listed species permits.

Dated: February 5, 2004.
David O'Brien,
Acting Chief, Endangered Species Division, Office of Protected Resources, National Marine Fisheries Service.

[FR Doc. 04-3278 Filed 2-12-04; 8:45 am]

BILLING CODE 3510-22-S